DEPARTMENT OF ENERGY

Western Area Power Administration

Dakotas Wind Transmission Study

AGENCY: Western Area Power Administration, DOE.

ACTION: Notice of the draft Study Scope.

SUMMARY: Notice is given to interested parties of the draft Study Scope language for performing studies associated with the Dakotas Wind Transmission Study (DWTS). The DWTS involves transmission studies on the placement of 500 megawatts (MW) of wind power in the Dakotas. Public comments on the draft Study Scope will be considered prior to finalizing the Study Scope language and performing the transmission studies.

DATES: The consultation and comment period begins today and will end June 21, 2004. Western will present a detailed informational explanation of the draft Study Scope associated with the DWTS at public information forums.

The public information forum dates are:

1. June 15, 2004, 7-9 p.m. CDT, Pierre, SD.

2. June 16, 2004, 7-9 p.m. CDT, Bismarck, ND.

Western will have a comment forum immediately after each information forum and accept written comments anytime during the consultation and comment period.

ADDRESSES: Send written comments to Robert J. Harris, Regional Manager, Upper Great Plains Region, Western Area Power Administration, 2900 4th Avenue North, Billings, MT 59101-1266, e-mail UGPDakotasWindTS@wapa.gov.

The public information forum locations are:

1. Pierre—Best Western Ramkota Hotel, 920 West Sioux, Pierre, SD.

2. Bismarck—Best Western Ramkota Hotel Bismarck, 800 South Third Street, Bismarck, ND.

FOR FURTHER INFORMATION CONTACT: Mr. Robert Harris, Regional Manager, Upper Great Plains Region, Western Area Power Administration, Box 35800, Billings, MT 59107-5800, telephone (406) 247-7405; or Mr. C. Sam Miller, Project Manager, Upper Great Plains Region, Western Area Power Administration, P. O. Box 35800, Billings, MT 59107-5800, telephone (406) 247-7466, e-mail CSmiller@wapa.gov.

SUPPLEMENTARY INFORMATION: In 2003, Congress passed legislation that included funding for the Western Area Power Administration (Western) to perform “a transmission study on the placement of 500 megawatt[s] [of] wind energy in North Dakota and South Dakota.” (Energy and Water Development Appropriations Act, 2004)

The Dakotas lead the nation in wind resources and have the potential to generate more than 100 times their current use of electricity. Wind power in the Dakotas currently totals 110 MW, producing about 2½ percent of the electric energy consumed in the two states.

The Dakotas are already an exporting region with total generation of electricity more than twice consumption. Exports on the region's transmission system are limited by both stability (transient and voltage) and thermal loading.

A number of wind energy transmission studies in the Dakotas have been completed, for both interconnection and delivery. Most notable is Western's “Montana/Dakotas Transmission Study Scope” completed in 2002, http://www.wapa.gov/ugp/study. This study made significant progress in highlighting key wind-related transmission issues. Additional investigations are building on the results of this work. Several new studies are currently underway.

In late February 2004, Western requested public comments to help develop the scope of the DWTS. Announcements were made through news coverage and mailings to interested groups. Comments were requested on study objectives, outcomes, and methods. In response, Western received 70 comments from stakeholders, landowners, individual citizens, elected officials, and utilities. All were carefully considered. Western also reviewed recent technical work related to scope development for the DWTS.

Objectives

The objectives of the DWTS include: (1) Perform transmission studies on the placement of 500 MW of wind power in North Dakota and South Dakota; (2) recognize and build upon prior related technical study work; (3) coordinate with current related technical study work; (4) solicit and incorporate public comments; and (5) produce meaningful, broadly supported results through a technically rigorous, inclusive study process. Western seeks public comments on the following proposed scope of work.

DWTS Work Scope

Task 1: Analyze Non-Firm Transmission Potential Relative to New Wind Generation

The existing total transfer capability across the major paths in the Dakotas is already reserved under long-term contracts. However, the scheduled amount of capacity is often less than the total amount, leaving unused capacity in many hours of the year. Wind power, as a variable, nondispatchable energy source may be able to fit in the transmission grid in these hours as an energy provider. The possibility of delivering wind energy through long-term, non-firm access, and curtailing wind power deliveries during congested periods, will be studied in this task.

The three key corridors to be studied are: (1) The North Dakota Export Boundary (a monitored regional flow gate comprised of 18 individual transmission lines in North Dakota, South Dakota, and Minnesota), (2) a 230 kilovolt (kV) transmission line, Watertown-Granite Falls, and (3) a group comprised of eight transmission lines running east and southeast from Fort Thompson and west and northwest from Fort Randall (two 230-kV transmission lines, Fort Thompson-Huron; two 230-kV transmission lines, Fort Thompson-Sioux Falls; one 345-kV transmission line, Fort Thompson-Grand Island; two 230-kV transmission lines, Fort Thompson-Fort Randall; and one 115-kV transmission line, Bonesteel-Fort Randall). The evaluation will include hourly, daily, and seasonal analysis for a minimum of 1 year for two cases: historical and projected.

Western will evaluate and compare administratively committed and actual usage across each corridor using actual historical data (e.g., this type of comparison can be found in the Western Interconnection Transmission Path Flow Study, February 2003, http://www.ssg-wi.com/documents/320-2002_Reportfinal_pdf.pdf); and projected system data based on a full year system model (e.g., PROMOD IV) of the Integrated System and surrounding control areas.

Western will evaluate and develop power production profiles of the Dakotas wind generation using actual historical data and statistically representative wind profiles (several years of historical data normalized to several decades of climate data). Western will coordinate with the National Renewable Energy Laboratory to identify the representative wind power production time series and develop the wind models.

Western will evaluate and compare the time synchronized transmission usage profiles and wind generation profiles over each timeframe (hourly, daily, and seasonal analysis for a minimum of 1 year) for both the historical and the projected case.

Western will develop annual flow duration curves for each corridor studied, assess the opportunity to deliver non-firm wind energy, and quantify the annual hours and time period of curtailment of the wind energy.

Western will run additional modeling cases to bracket key sensitivities including high- and low-hydropower scenarios, demand growth scenarios, and natural gas price scenarios.

Task 2: Assess Potential of Transmission Technologies Relative to New Wind Generation

Normal power flow on the transmission system often results in less than full use of the physical transmission capacity. One or more transmission lines may be loaded up to their thermal limits while the remaining lines are loaded to levels far below their thermal capacity. In the Dakotas, stability issues can limit transfer capacity before thermal limits are reached. Technology-based solutions that can increase the use of existing network transmission lines without jeopardizing reliability are now in a mature development phase and have been applied where economically justified on various utility networks. The Flexible AC Transmission System is a set of controller devices designed to provide dynamic control of power transmission parameters such as transmission line impedance, voltage magnitude, and phase angle. Many of these technologies were identified as possible solutions to transmission constraints in the Montana/Dakotas Transmission Study Scope. This analysis will be developed further in this task.

This task will evaluate the opportunities and costs of increasing the use of existing transmission lines and corridors in the Dakotas while maintaining safe operation of the network. Specific opportunities will be identified and quantified.

Technologies to be studied include: (1) Static var compensation to improve transmission system performance by providing the reactive power required to control dynamic voltage swings, (2) series compensation to improve stability by generating self-regulated reactive power, (3) phase-shifting transformers to improve stability and thermal loading by assisting with the control of power flow, (4) dynamic line ratings to increase transfer capacity by calculating the real time dynamic thermal rating of transmission lines based on real-time monitoring of lines and weather conditions, and (5) reconductoring to increase transfer capacity by replacing transmission line conductors with newer composite materials that can carry more current at the same or higher voltage. This evaluation will include an assessment of impacts on existing tower structures and right-of-ways.

Task 3: Study Interconnection of New Wind Generation

Seven wind generation zones will be evaluated for interconnection. They were developed from public comments, wind resource maps, the Western interconnection queue, tribal projects, and developer projects. The zones are generally located near:

Garrison, North Dakota

Wishek/Ellendale/Edgeley, North Dakota

Pickert, North Dakota

Rapid City, South Dakota

Mission, South Dakota

Fort Thompson, South Dakota

Summit/Watertown/Toronto/White/Brookings/Flandreau, South Dakota

Aggregate interconnection studies to determine the local impacts of new wind generation will be prepared for each site at four wind generation levels of 50, 150, 250, and 500 MW. Impacts to be studied include steady state power flow analysis, constrained interface analysis, short circuit analysis, and dynamic stability analysis.

Task 4: Study the Delivery to Market of New Wind Generation

Aggregate delivery studies will be performed on the four most favorable interconnection zones in Task 3. Several delivery scenarios will be developed for the new wind power based upon markets both inside and outside of the Dakotas.

The incremental transmission delivery capability of each zone will be identified along with the necessary transmission improvements for each level of generation. Both steady state and stability analysis will be completed and losses will be evaluated. Transmission improvement options will be ranked by technical feasibility, right-of-way impact, and cost.

Study Guidelines

All models and system data will be coordinated with and consistent with existing Mid-Continent Area Power Pool and Midwest Independent System Operator models and databases. Current wind turbine models will be used.

Next Phase of Study

If any of the appropriated funding remains after the DTWS is completed, the following concepts will be explored by Western: (1) developing a cost share loan and/or grant program for partially funding transmission studies for wind power projects connecting in the Dakotas and (2) updating the models developed for Tasks 3 and 4 at regular intervals to incorporate ongoing changes to the transmission system in the Dakotas.

Availability of Information

All studies, comments, letters, memorandums, or other documents that Western initiates or uses are available for inspection and copying at the Upper Great Plains Regional Office, located at 2900 4th Avenue North, Billings, Montana. Many of these documents and supporting information are also available on its Web site under the “Dakotas Wind Transmission Study” section located at: http://www.wapa.gov/ugp/study/DakotasWind.

Regulatory Procedure Requirements

Review Under the Regulatory Flexibility Act

The Regulatory Flexibility Act of 1980, 5 U.S.C. 601, et seq., requires Federal agencies to perform a regulatory flexibility analysis if a final rule is likely to have a significant economic impact on a substantial number of small entities and there is a legal requirement to issue a general notice of proposed rulemaking. Western has determined this action does not require a regulatory flexibility analysis since it is not a rulemaking that involves rates or services applicable to public property.

Environmental Compliance

In compliance with the National Environmental Policy Act of 1969 (NEPA) (42 U.S.C. 4321, et seq.); Council on Environmental Quality Regulations (40 CFR parts 1500-1508); and DOE NEPA Regulations (10 CFR part 1021), Western has determined this action is categorically excluded from preparing an environmental assessment or an environmental impact statement.

Determination Under Executive Order 12866

Western has an exemption from centralized regulatory review under Executive Order 12866; so this notice requires no clearance by Office of Management and Budget.

Small Business Regulatory Enforcement Fairness Act

Western has determined that this rule is exempt from congressional notification requirements under 5 U.S.C. 801 because the action is a rulemaking to approve or prescribe rates or services and involves matters of agency procedure.

Dated: May 11, 2004.
Michael S. Hacskaylo,
Administrator.

[FR Doc. 04-11412 Filed 5-19-04; 8:45 am]

BILLING CODE 6450-01-P